FEDERAL COMMUNICATIONS COMMISSION

[3060-0065]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before October 23, 2015. If you anticipate that you will be submitting comments, but find it difficult to do so within the period of time allowed by this notice, you should advise the contact listed below as soon as possible.

ADDRESSES: Submit your PRA comments to Benish Shah, Federal Communications Commission, via the Internet at Benish.Shah@fcc.gov. To submit your PRA comments by email send them to: PRA@fcc.gov.

FOR FURTHER INFORMATION CONTACT: Benish Shah, Office of Managing Director, (202) 418-7866.

SUPPLEMENTARY INFORMATION: OMB Control Number: 3060-0065.

Title: Applications for New Authorization or Modification of Existing Authorization Under Part 5 of the FCC Rules-Experimental Radio Service.

Form Number: FCC Form 442.

Type of Review: Revision of a currently approved collection.

Respondents: Business or other for-profit entities; Not-for-profit institutions, and Individuals or household.

Number of Respondents: 495 respondents; 560 responses.

Estimated Time per Response: 4 hours.

Frequency of Response: On occasion reporting requirements; Recordkeeping requirements; and third party disclosure.

Obligation to Respond: Required to obtain or retain benefits. Statutory authority for this information collection is contained in 47 U.S.C. Sections 4, 302, 303, 307 and 306 of the Communications Act of 1934, as amended.

Total Annual Burden: 3,049 hours.

Total Annual Cost: $41,600.

Nature and Extent of Confidentiality: There is no need for confidentiality, except for personally identifiable information individuals may submit, which is covered by a system of records, FCC/OET-1, “Experimental Radio Station License Files,” 71 FR 17234, April 6, 2006.

Privacy Act Impact Assessment: No impact(s).

Needs and Uses: The Commission will submit this revised information collection to the Office of Management and Budget (OMB), after this 60 day comment period in order to obtain the full three year clearance from them. The Commission is requesting a revision (there has been a program change in the reporting, recordkeeping requirements and/or third party disclosure requirements, the number of respondents increased from 400 to 495, therefore, the annual burden hours increased from 2,240 to 3,049 and the cost has also increased from $32,400.00 to $41,600).

On January 31, 2013, the Commission adopted a Report and Order, in ET Docket No. 10-236 and 06-155; FCC 13-15, which updates Part 5 of the CFR—“Experimental Radio Service” (ERS). The Commission's recent Report and Order revises and streamlines rules under for the Experimental Radio Service (ERS).¹ These rule changes update procedures used to obtain and use an experimental license.

¹ See In the Matter of Promoting Expanded Opportunities for Radio Experimentation and Market Trials Under Part 5 of the Commission's Rules and Streamlining Other Related Rules, ET Docket No. 10-236; 2006 Biennial Review of Telecommunications Regulations—Part 2, Administered by the Office of Engineering and Technology (OET), ET Docket No. 06-155; 28 FCC Rcd 758 (2013), FCC 13-15.

The new rules provide additional license categories to potential licensees. The new license categories are:

• Program Experimental Radio License—This type of license is issued to qualified institutions to conduct an ongoing program of research and experimentation under a single experimental authorization. Program experimental radio licenses are available to colleges, universities, research laboratories, manufacturers of radio frequency equipment, manufacturers that integrate radio frequency equipment into their end products, and medical research institutions.

• Medical Program Experimental Radio License—This type of license is issued to hospitals and health care institutions that demonstrate expertise in testing and operation of experimental medical devices that use wireless telecommunications technology or communications functions in clinical trials for diagnosis, treatment, or patient monitoring.

• Compliance Testing Experimental Radio License—This type of license will be issued to laboratories recognized by the FCC to perform:

(i) Product testing of radio frequency equipment, and

(ii) Testing of radio frequency equipment in an Open Area Test Site.

To accomplish this transition, the Commission will updates the current “Experimental Licensing Radio” electronic filing system. The existing ELS Form 442 interface will require modification; and the ELS database will require modification to facilitate inter-operability with the new ELS notification Web site. There will are new screen shots for the Web site/licensees. Office of Engineering and Technology Web site http://www.fcc.gov/els.

Federal Communications Commission.
Sheryl D. Todd,
Deputy Secretary.

[FR Doc. 2015-20799 Filed 8-21-15; 8:45 am]

BILLING CODE 6712-01-P